ENVIRONMENTAL PROTECTION AGENCY

[ER-FRL-9004-2]

Environmental Impacts Statements; Notice of Availability

Responsible Agency: Office of Federal Activities, General Information (202) 564-7146 or http://www.epa.gov/compliance/nepa/.

Weekly receipt of Environmental Impact Statements

Filed 07/16/2012 through 07/20/2012

Pursuant to 40 CFR 1506.9.

Notice

Section 309(a) of the Clean Air Act requires that EPA make public its comments on EISs issued by other Federal agencies. EPA's comment letters on EISs are available at: http://www.epa.gov/compliance/nepa/eisdata.html.

Supplementary Information: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120240, Final EIS, BLM, 00, Programmatic—Solar Energy Development in Six Southern States, To Identify and Prioritize Specific Locations Best Suited for Utility Scale Solar Energy Development on Public Lands, AZ, CA, CO, NV, NM, and UT, Review Period Ends: 08/27/2012, Contact: Shannon Stewart, BLM 202 912-7219; Jane Summerson, DOE 202-287-6188. The U.S. Department of the Interior's Bureau of Land Management and the U.S. Department of Energy are Joint Lead Agencies for this project.

EIS No. 20120241, Final EIS, USFS, WA, South George Vegetation and Fuels Management Project, To Improve Forest Health and Resilience to Fire, Insects and Disease in Upland Forests, Pomerory Ranger District, Umatilla National Forest, Asotin and Garfield Counties, WA, Review Period Ends: 08/27/2012, Contact: Dan Castillo 509-843-1891.

EIS No. 20120242, Final EIS, BLM, WY, Lost Creek In Situ Recovery Project, To Analyze the Site-Specific Impacts Associated with the Plan of Operations, Sweetwater County, WY, Review Period Ends: 08/27/2012, Contact: John Russell 307-328-4252.

EIS No. 20120243, Final EIS, DHS, 00, Programmatic—Northern Border Activities Program, Propose to Enhance its Program of Security along the United States' Northern Border with Canada, from Maine to Washington, Review Period Ends: 08/27/2012, Contact: Jennifer Hass 202-344-1929.

EIS No. 20120244, Draft Supplement, NNSA, 00, Surplus Plutonium Disposition (DOE/EIS-0283-S2), To Consider Options for Pit Disassembly and Conversion of Plutonium Metal to Oxide, SC, NM, AL, and TN, Comment Period Ends: 09/25/2012, Contact: Sachiko McAlhany 803-952-6110.

EIS No. 20120245, Final EIS, USA, AK, Point Thomson Project, Authorization for the Placement of Fill Material into U.S. Waters, Permit Application, AK, Review Period Ends: 08/27/2012, Contact: Harry A. Baij 907-753-2784.

EIS No. 20120246, Final EIS, USN, CA, Marine Corps Air Ground Combat Center Project, Land Acquisition and Airspace Establishment to Support Large-Scale MAGTF Live-Fire and Maneuver Training Facility, Twentynine Palms, San Bernardino County, CA, Review Period Ends: 08/27/2012, Contact: Chris Proudfoot 760-830-3764.

EIS No. 20120247, Final EIS, USACE, 00, Mississippi River Gulf Outlet Ecosystem Restoration, To Develop a Comprehensive Ecosystem Restoration Plan to Restore the Lake Borgne Ecosystems, LA and MS, Review Period Ends: 08/27/2012, Contact: Tammy Gilmore 504-862-1002.

EIS No. 20120248, Final EIS, USACE, TX, City of Denison Land Conveyance, Lake Texoma, To Convey a Parcel of Federally-owned Land at Lake Texoma, OK and TX to the City of Denison, TX, Grayson and Cooke Counties, TX and Portion of Bryan, Marshall, Johnston, and Love Counties, OK, Review Period Ends: 08/28/2012, Contact: Stephan L. Nolan 918-669-7660.

EIS No. 20120249, Second Draft EIS (Tiering), USCG, 00, Tier 1 DEIS—Rulemaking for Dry Cargo Residue (DCR) Discharges in the Great Lakes, To Regulate Nonhazardous and Nontoxic DCR Sweeping from Vessels in the Great Lakes that fall under the Jurisdiction of the United States and Address Gaps Identified in Phase I Final EIS, Comment Period Ends: 10/25/2012, Contact: Timothy O'Brien 202-372-1539.

Amended Notices

EIS No. 20120164, Draft EIS, BLM, CA, McCoy Solar Energy Project, Development of up to 750-megawatt(mw) Solar Energy Plant, Right-of-Way Grant, Riverside County, CA, Comment Period Ends: 08/23/2012, Contact: Jeff Childers 760-833-7100 Revision to FR Notice Published 05/25/2012; Extending Comment Period from 08/22/2012 to 08/23/2012.

EIS No. 20120209, Draft EIS, USN, FL, Naval Air Station Key West Airfield Operations, To Support and Conduct Aircraft Training Operations, Florida Keys, Monroe County, FL, Comment Period Ends: 08/13/2012, Contact: John Conway 904-542-6870. Revision to FR Notice Published 06/29/2012; Extending Comment Period from 08/13/2012 to 08/28/2012.

EIS No. 20120233, Draft EIS, BLM, NM, Prehistoric Trackways National Monument Resource Management Plan, Implementation, Dona Ana County, NM, Comment Period Ends: 10/22/2012, Contact: Lori Allen 575-525-4454. Revision to FR Notice Published 07/20/2012; Change Filing Agency from AFS to BLM.

EIS No. 20120237, Final Supplement, FHWA, CO, US 550 South Connection to US 160, Updated Information, To US 160 from Durango to Bayfield, US Army COE Section 404 Permit, La Plata County, CO, Review Period Ends: 08/27/2012, Contact: Stephanie Gibson 720-963-3013. Revision to FR Notice Published 07/20/2012; Filed Corrected Version and Extending Review Period from 8/20/2012 to 8/27/2012.

Dated: July 24, 2012.
Cliff Rader,
Director, NEPA Compliance Division, Office of Federal Activities.

[FR Doc. 2012-18373 Filed 7-26-12; 8:45 am]

BILLING CODE 6560-50-P